JUDICIAL CONFERENCE OF THE UNITED STATES

Advisory Committees on Appellate, Bankruptcy, and Civil Rules; Hearings of the Judicial Conference

AGENCY: Judicial Conference of the United States.

ACTION: Advisory Committees on Appellate, Bankruptcy, and Civil Rules; notice of proposed amendments and open hearings.

DATES: All written comments and suggestions with respect to the proposed amendments may be submitted on or after the opening of the period for public comment on August 15, 2023, but no later than February 16, 2024.

ADDRESSES: Written comments must be submitted electronically, following the instructions provided on the website. Comments will be posted on the website and available to the public.

Public hearings either virtually or in person are scheduled on the proposed amendments as follows:

• Appellate Rules on October 18, 2023, and January 24, 2024;

• Bankruptcy Rules and Forms on January 12, 2024, and January 19, 2024; and

• Civil Rules on October 16, 2023, January 16, 2024, and February 6, 2024.

Those wishing to testify must contact the Secretary of the Committee on Rules of Practice and Procedure by email at: RulesCommittee_Secretary@ao.uscourts.gov, at least 30 days before the hearing.

FOR FURTHER INFORMATION CONTACT: H. Thomas Byron III, Esq., Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

SUPPLEMENTARY INFORMATION: The Advisory Committees on Appellate, Bankruptcy, and Civil Rules have proposed amendments to the following rules:

• Appellate Rules 6 and 39;

• Bankruptcy Rules 3002.1 and 8006;

• Bankruptcy Official Forms 410, 410C13-M1, 410C13-M1R, 410C13-N, 410C13-NR, 410C13-M2, and 410C13-M2R; and

• Civil Rules 16, 26, and new Rule 16.1.

The text of the proposals will be posted August 15, 2023, on the Judiciary's website at: https://www.uscourts.gov/rules-policies/proposed-amendments-published-public-comment.

(Authority: 28 U.S.C. 2073.)

Dated: August 3, 2023.
Shelly L. Cox,
Management Analyst, Rules Committee Staff.

[FR Doc. 2023-16976 Filed 8-8-23; 8:45 am]

BILLING CODE 2210-55-P